DEPARTMENT OF COMMERCE

National Oceanic and Atmospheric Administration

RIN 0648-XD258

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit application submitted by the Northeast Fisheries Science Center contains all of the required information and warrants further consideration. The Exempted Fishing Permit would exempt participating vessels from the following types of fishery regulations: Minimum fish size restrictions; fish possession limits; prohibited fish species, not including species protected under the Endangered Species Act; gear-specific fish possession restrictions for the purpose of collecting fishery dependent catch data and biological samples; and the prohibition from fishing in year-round groundfish closed areas.

Regulations under the Magnuson-Stevens Fishery Conservation and Management Act require publication of this notification to provide interested parties the opportunity to comment on Exempted Fishing Permit applications.

DATES: Comments must be received on or before May 14, 2014.

ADDRESSES: You may submit written comments by any of the following methods:

• Email: nmfs.gar.efp@noaa.gov. Include in the subject line “Comments on NEFSC Study Fleet EFP.”

• Mail: John K. Bullard, Regional Administrator, NMFS, Greater Atlantic Regional FIsheries Office, 55 Great Republic Drive, Gloucester, MA 01930. Mark the outside of the envelope “Comments on NEFSC Study Fleet EFP.”

• Fax: (978) 281-9135.

FOR FURTHER INFORMATION CONTACT: Brett Alger, Fishery Management Specialist, 978-675-2153, Brett.Alger@noaa.gov.

SUPPLEMENTARY INFORMATION: The Northeast Fisheries Science Center (NEFSC) submitted a complete application for an Exempted Fishing Permit (EFP) on April 3, 2014, to enable data collection activities that the regulations on commercial fishing would otherwise restrict. The EFP would exempt approximately 30 federally permitted commercial fishing vessels from the regulations detailed below while participating in the Study Fleet Program and operating under projects managed by the NEFSC. The EFP would exempt participating vessels from minimum fish size restrictions; fish possession limits; prohibited fish species, not including species protected under the Endangered Species Act; gear-specific fish possession restrictions for the purpose of at-sea sampling and, in limited situations for research purposes only, to retain and land fish that would otherwise be prohibited; and the prohibition from fishing in portions of groundfish year-round closed areas.

The NEFSC Study Fleet Program was established in 2002 to more fully characterize commercial fishing operations and to leverage sampling opportunities to augment NMFS data collection programs. Participating vessels are contracted by the NEFSC to collect tow by tow catch and environmental data, and to fulfill specific biological sampling needs identified by the NEFSC. To collect these data, the NEFSC Study Fleet Program has obtained an EFP to secure the necessary waivers needed by the vessels to obtain fish that would otherwise be prohibited by regulations.

Crew trained by the NEFSC Study Fleet Program in methods that are consistent with the current NEFSC observer protocol, while under fishing operations, would sort, weigh, and measure fish that are to be discarded. An exemption from minimum fish size restrictions; fish possession limits; prohibited fish species, not including species protected under the Endangered Species Act; and gear-specific fish possession restrictions for at-sea sampling is required because some discarded species would be on deck slightly longer than under normal sorting procedures.

Participating vessels would also be authorized to retain and land, in limited situations for research purposes only, fish that do not comply with fishing regulations. The vessels would be authorized to retain specific amounts of particular species in whole or round weight condition, in marked totes, which would be delivered to Study Fleet Program technicians. The NEFSC would require participating vessels to obtain written approval from the NEFSC Study Fleet Program prior to landing any fish in excess of possession limits and/or below minimum size limits to ensure that the landed fish do not exceed any of the Study Fleet Program's collection needs, as detailed below. None of the landed biological samples from these trips would be sold for commercial use or used for any other purpose other than scientific research.

The table below details the regulations from which the participating vessels would be exempt when retaining and landing fish for research purposes. The participating vessels would be required to comply with all other applicable requirements and restrictions specified at 50 CFR part 648, unless specifically exempted in this EFP. All catch of stocks allocated to Sectors by vessels on a Sector trip would be deducted from the Sector's Annual Catch Entitlement (ACE) for each Northeast multispecies stock. Once a sector's ACE for a stock has been reached, vessels would no longer be allowed to target groundfish in that stock area, unless they acquired additional ACE for the limiting stock. Non-sector vessels would be exempted from possession restrictions as identified below in the table, but would still be subject to trimester total allowable catch (TAC) accountability measures applicable to non-sector groundfish vessels, which state that when 90 percent of the trimester TAC for a groundfish stock is projected to be caught, the area where that stock is predominantly caught will close to vessels fishing with a specific gear type for the rest of that trimester.

NEFSC Study Fleet Program EFP
Approximate number of vessels | 30
Exempted regulations in 50 CFR part 648 | Size limits § 648.83 NE multispecies minimum size. § 648.93 Monkfish minimum fish size. § 648.104 Summer flounder minimum fish size. § 648.147 Black sea bass minimum fish size.
| Possession restrictions § 648.86(a) Haddock. § 648.86(b) Atlantic cod. § 648.86(g) Yellowtail flounder. § 648.86(j) Georges Bank winter flounder. § 648.86(l) Zero retention of Atlantic wolffish. § 648.86(o) Possession limits implemented by Regional Administrator. § 648.94 Monkfish possession limit. § 648.106 Summer flounder possession restrictions. § 648.322 Skate possession and landing restrictions. § 648.145 Black sea bass possession limits. § 648.235 Spiny dogfish possession and landing restrictions.

NEFSC Study Fleet Program's Sampling Needs:

Haddock—whole fish would be retained for maturity and fecundity research. The haddock retained would not exceed 30 fish per trip, or 360 fish for all trips. The maximum weight of haddock on any trip would not exceed 120 lb (54.43 kg) total weight per trip, and would not exceed 1,440 lb (653.17 kg) for all trips combined.

Yellowtail Flounder—whole fish would be retained for maturity, fecundity, bioelectrical impedance analysis (BIA), food habits, and genetic research. The yellowtail flounder retained would not exceed 200 fish per month from each of the three stock areas (Gulf of Maine (GOM), Georges Bank (GB), Southern New England/Mid-Atlantic (SNE/MA)), or 1,200 fish total from each stock area for all trips. The maximum weight on any trip would not exceed 100 lb (45.4 kg) total weight, and would not exceed 3,000 lb (1,361.8 kg) for all trips combined.

Summer Flounder—whole fish would be retained for maturity, fecundity, BIA, food habits, and genetic research. The summer flounder retained would not exceed 200 fish per month from each of the three stock areas (GOM, GB, SNE/MA), or 1,200 fish total from each stock area for all trips. The maximum weight on any trip would not exceed 150 lb (68.04 kg) total weight, and would not exceed 4,500 lb (2,041.17 kg) for all trips combined.

Winter Flounder—whole fish would be retained for maturity, fecundity, BIA, food habits, and genetic research. The winter flounder retained would not exceed 200 fish per month from each of the three stock areas (GOM, GB, SNE/MA), or 1,200 fish total from each stock area for all trips. The maximum weight on any trip would not exceed 100 lb (45.36 kg) total weight, and would not exceed 3,000 lb (1,360.78 kg) for all trips combined.

Windowpane Flounder—whole fish retained for age and growth work to support a 2015 windowpane stock assessment. Otoliths and fish length would be collected to validate ages using marginal increment analysis. Not to exceed 40 fish per month from all stock areas combine (GOM and GB stock) or 520 fish total for all trips. The maximum weight on any trip would not exceed 30 lb (13.6 kg), total weight not to exceed 360 lb (163.3 kg) for all trips combined.

Spiny Dogfish—whole fish would be retained for reproductive biology research. The spiny dogfish retained would not exceed 60 fish per month from all stock areas combined (GOM, GB, and SNE/MA), or 720 fish total for all trips. The maximum weight on any trip would not exceed 350 lb (158.76 kg), and would not exceed 4,200 lb (1,905.09 kg) total for all trips.

Monkfish—whole fish would be retained for maturity and fecundity research. Monkfish retained would not exceed 10 fish per trip, or 120 fish total for all trips. The maximum weight on any trip would not exceed 100 lb (45.36 kg) total weight, and would not exceed 1,200 lb (544.31 kg) for all trips combined.

Atlantic Cod—whole fish would be retained for maturity, fecundity, BIA, food habits, and genetic research. Cod to be retained would not exceed 200 fish per month from each of the three stock areas (GOM, GB, SNE/MA), or 1,200 fish total from each stock area for all trips. The maximum weight on any trip would not exceed 300 lb (136.08 kg) total weight, and would not exceed 8,500 lb (3,855.54 kg) for all trips combined.

Barndoor Skate—whole and, in some cases, live skates would be retained for age and growth research and species confirmation. The barndoor skates retained would not exceed 20 fish per 3-month period, or 80 skates total for all trips. The maximum weight on any trip would not exceed 75 lb (34.02 kg) total weight, and would not exceed 300 lb (136.08 kg) total for all trips combined.

Thorny Skate—whole and, in some cases, live skates would be retained for age and growth research and species confirmation. Thorny skates retained would not exceed 20 fish per 3-month period, or 80 skates total for all trips. The maximum weight on any trip would not exceed 75 lb (34.02 kg) whole weight, and would not exceed 300 lb (136.08 kg) total for all trips combined.

Black Sea Bass—whole fish would be retained for examination of seasonal and latitudinal patterns in energy allocation. This effort is in support of an ongoing study at the NEFSC to evaluate BIA to measure fish energy density and reproductive potential for stock assessment. Black sea bass retained would not exceed 75 fish per trip or 300 black sea bass total for all trips. The maximum weight on any trip would not exceed 250 lb (113.40 kg) total weight, and would not exceed 1,000 lb (453.59 kg) total for all trips combined.

Atlantic wolffish—whole fish would be retained for maturity, fecundity, and life history research. Atlantic wolffish retained would not exceed 30 fish per month or 360 fish total for all trips. The maximum weight on any trip would not exceed 120 lb (54.4 kg) and would not exceed 3,000 lb (1,360.8 kg) total for all trips combined.

Cusk—whole fish would be retained for maturity, fecundity, and life history research. Cusk retained would not exceed 30 fish per month or 360 fish total for all trips. The maximum weight on any trip would not exceed 100 lb (45.4 kg) and would not exceed 2,300 lb (1,043.3 kg) total for all trips combined.

Atlantic halibut—whole fish retained for age, growth, maturity, fecundity, and diet research. Not to exceed 10 fish per month or 120 fish total for all trips. The maximum weight on any trip would not exceed 300 lb (136.1 kg) and would not exceed 10,000 lb (4,535.9 kg) total for all trips combined.

Closed Area I and II Study Fleet Pilot Study

Georges Bank (GB) Closed Areas (CAs) I and II have been closed to most groundfish fishing for nearly 20 years. Consequently, there are questions about what the catch composition and catch rates would be if groundfish vessels were allowed to fish in these areas. For fishing year 2014, the Greater Atlantic Regional Fisheries Office (GARFO) has proposed consideration of granting groundfish sector vessels restricted access to GB CAs I and II, which was announced in a proposed rule (79 FR 14639, March 17, 2014), should results from the NEFSC's Study Fleet warrant doing so. Under this exemption, access would be proposed as follows:

Closed Area I

The central portion (see below) of CA I (i.e., outside of essential fish habitat) would be opened from the date a final rule approving the exemption is published, through December 31, 2014. Trawl vessels would be restricted to selective trawl gear, including the separator trawl, Ruhle trawl, and the rope trawl. Hook gear would be permitted in this area as well, but gillnets would be prohibited. An industry-funded at-sea monitor would be required for every trip.

The portion of Closed Area I, defined by straight lines connecting the following points:

Point | N. lat. | W. long.
A | 41°04′ | 69°01′
B | 41°26′ | 68°30′
C | 40°58′ | 68°30′
D | 40°55′ | 68°53′
A | 41°04′ | 69°01′

Closed Area II

The central portion (see below) of CA II (i.e., outside of essential fish habitat) would be opened from November 1, 2014, through December 31, 2014. The gear restrictions in CA II are the same as those proposed for CA I—selective trawls and hook gear only, gillnets would be prohibited. An industry-funded at-sea monitor would be required for every trip.

The portion of Closed Area II, defined by straight lines connecting the following points:

Point | N. lat. | W. long. | Note
A | 41°30′ | (66°34.8′) | (1)
B | 41°30′ | 67°20′ |
C | 41°50′ | 67°20′ |
D | 41°50′ | 67°10′ |
E | 42°00′ | 67°10′ |
F | 42°00′ | (67°00.63′) | (2), (3)
A | 41°30′ | (66°34.8′) | (1)
¹ The intersection of 41°30' N. latitude and the U.S.-Canada Maritime Boundary, approximate longitude in parentheses.
² The intersection of 42°00' N. latitude and the U.S.-Canada Maritime Boundary, approximate longitude in parentheses.
³ From POINT F back to POINT A along the U.S.-Canada Maritime Boundary.

The proposed rule highlighted that GARFO is interested in conducting research through an EFP to gather catch data from portions of CAs I and II to provide basic catch information to the industry, the public, and NMFS. Participating vessels would require an exemption from CA I and II regulations at 50 CFR 648.81(a) and (b), respectively, and fish possession restrictions noted above (for catch sampling purposes only) to conduct this study.

Pilot Study Objectives

This pilot project would authorize limited access groundfish sector vessels in the study fleet to fish in portions of CAs I and II to achieve the following objectives:

1. Provide basic catch composition and catch rate data, with a focus on target species such as haddock, and species of concern, such as yellowtail flounder and cod.

2. Evaluate the economic benefit of allowing sector vessels to fish in these areas, as proposed under the sector rule.

Pilot Study Methods

Vessels would take up to 10 trips into portions of CA I and/or CA II to collect catch composition data. Vessels would fish in accordance with standard commercial practice, including tow duration ranges between 1 and 3 hours, tow speed averages of 2.5-3.0 knots, and fishing activity throughout the day when on the fishing grounds. Trips would be 5-10 days in length. Vessels would have discretion to fish inside or outside the closed area during the trip. When fishing in closed areas, vessels would be required to use selective trawl gears (i.e., Ruhle trawl, haddock separator trawl, or rope separator trawl). In addition, vessels would only be authorized to fish within the access areas proposed above. In CA I, trips would begin in May 2014 and be completed no later than December 31, 2014. In CA II, trips would begin in May 2014, be completed no later than June 15, 2014, and then continue between November 1, 2014, through December 31, 2014. A study fleet technician would be on board every trip operating under the closed area exemption, and the technician would collect data from every tow that occurs in a closed area, including pounds retained and discarded of focus species, length frequency of focus species, tow location and duration, gear specifications, and bottom temperature, among other information. Vessels would remain subject to groundfish catch limits, and all catch would be accounted for and applied against the appropriate Annual Catch Entitlement, or other quota, as applicable. Legal catch would be sold.

Pilot Study Results

Catch composition and catch rate data will be characterized at different spatial and temporal scales (e.g., tow, trip, area) to inform questions about target and non-target catch in these areas. Catch data will be released to the public.

If approved, the applicant may request minor modifications and extensions to the EFP throughout the year. EFP modifications and extensions may be granted without further notice if they are deemed essential to facilitate completion of the proposed research and have minimal impact that do not change the scope or impact of the initially approved EFP request. Any fishing activity conducted outside the scope of the exempted fishing activity would be prohibited.

Authority: 16 U.S.C. 1801 et seq.

Dated: April 24, 2014.
Emily H. Menashes,
Acting Director, Office of Sustainable Fisheries, National Marine Fisheries Service.

[FR Doc. 2014-09741 Filed 4-28-14; 8:45 am]

BILLING CODE 3510-22-P